DEPARTMENT OF LABOR

Employment and Training Administration

[TA-W-52,049]

American Leather, LP, Dallas, TX; Notice of Termination of Investigation

Pursuant to section 221 of the Trade Act of 1974, an investigation was initiated on June 17, 2003, in response to a worker petition which was filed by a company official on behalf of workers at American Leather, LP, Dallas, Texas (TA-W-52,049).

The petitioner has requested that the petition be withdrawn. Consequently, further investigation in this case would serve no purpose, and the investigation has been terminated.

Signed in Washington, DC, this 25th day of July, 2003.
Linda G. Poole,
Certifying Officer, Division of Trade Adjustment Assistance.

[FR Doc. 03-19870 Filed 8-4-03; 8:45 am]

BILLING CODE 4510-30-P